NATIONAL CREDIT UNION ADMINISTRATION

[NCUA-2023-0072]

Request for Comment Regarding National Credit Union Administration Operating Fee Schedule Methodology

In notice document 2023-14201 beginning on page 43149 in the issue of Thursday, July 6, 2023, make the following corrections:

On page 43149, in the second column, under DATES, in the sixteenth line from the bottom of the page “August 7, 2023” should read “September 5, 2023”.

[FR Doc. C1-2023-14201 Filed 7-25-23; 8:45 am]

BILLING CODE 0099-10-D